DEPARTMENT OF VETERANS AFFAIRS

Veterans' Advisory Committee on Education; Notice of Meeting

The Department of Veterans Affairs gives notice under Pub. L. 92-463 (Federal Advisory Committee Act) that the Veterans' Advisory Committee on Education will meet on May 16-17, 2007. On May 16, the session will be held in room C-7A at the VA Central Office, 810 Vermont Avenue, NW., Washington, DC. On May 17, the session will be held at the Veterans of Foreign Wars Building, 200 Maryland Avenue, NE., Washington, DC. Sessions will begin at 8:30 a.m. each day, ending at 4:15 p.m. on May 16 and at 12 noon on May 17. The meeting is open to the public.

The purpose of the Committee is to advise the Secretary of Veterans Affairs on the administration of education and training programs for veterans, servicepersons, reservists, and dependents of veterans under Chapters 30, 32, 35, and 36 of title 38, and Chapter 1606 of title 10, United States Code.

On May 16, the agenda will include opening remarks and an overview by Mr. James Bombard, Committee Chair. In addition, this session will include discussion on proposed and new legislation, a total force GI Bill, chapter 1606 eligibility extension, on-the-job training and apprenticeship programs and the contract call center. oral statements from the public will be heard at 4 p.m. On May 17, the Committee will review and summarize issues discussed during the meeting.

Interested persons may file written statements with the Committee before the meeting, or within 10 days after the meeting, with mr. Salminio Garner, Designated Federal Officer, Department of Veterans Affairs, Veterans Benefits Administration, Education Service (225B), 810 Vermont Avenue, NW., Washington, DC 20420. Any member of the public wishing to attend the meeting should contact Mr. Salminio Garner or Mr. Robyn Noles at (202) 273-7187.

Dated: April 16, 2007.
By Direction of the Secretary
E. Philip Riggin,
Committee Management Officer.

[FR Doc. 07-1947 Filed 4-19-07; 8:45 am]

BILLING CODE 8320-07-M